DEPARTMENT OF TRANSPORTATION

Federal Highway Administration

National Intelligent Transportation Systems (ITS) Architecture; New User Service

AGENCY: Federal Highway Administration (FHWA), DOT.

ACTION: Notice.

SUMMARY: The purpose of this document is to announce that FHWA will begin the incorporation of a new user service, Maintenance and Construction Operations (MCO), into the National ITS Architecture. The need for the MCO User Service was identified by stakeholders of the rural ITS deployment community so that more comprehensive rural regional ITS architectures could be developed. This user service was developed, with stakeholder participation, through development workshops in April 1999 and June 2000 and at a presentation session at the Rural Advanced Transportation Technology Systems (RATTS) conference in August 2000.

FOR FURTHER INFORMATION CONTACT: For information on National ITS Architecture Development: Mr. Lee Simmons, (202) 366-8048, ITS Joint Program Office (HOIT-1). For information on the Maintenance and Construction Operations User Service: Mr. James Pol, (202) 366-4374, ITS Joint Program Office (HOIT-1), Mr. Michael Freitas, (202) 366-9292, ITS Joint Program Office (HOIT-1). For Legal Questions: Ms. Gloria Hardiman-Tobin, (202) 366-1397, Office of the Chief Counsel (HCC-40). Office hours are from 7:45 a.m. to 4:15 p.m., e.t., Monday through Friday, except Federal Holidays.

SUPPLEMENTARY INFORMATION:

Electronic Access

An electronic copy of this document may be downloaded by using a computer, modem and suitable communications software from the Government Printing Office's Electronic Bulletin Board Service at (202) 512-1661. Internet users may reach the Office of the Federal Register's home page at: http:www.nara.gov/fedreg and the Government Printing Office's web site at: http://www.access.gpo.gov/nara.

An electronic copy of the Maintenance and Construction Operations User Service can be retrieved from the ITS web site: http://www.its.dot.gov.

Background

The Maintenance and Construction Operations (MCO) User Service describes the need for effectively integrating ITS maintenance and construction services with other ITS services. Generally, key MCO services include monitoring, operating, maintaining, improving, and managing the physical condition of the roadway, associated infrastructure equipment on the roadway, and the available resources necessary to conduct these activities. The functional areas addressed in the Maintenance and Construction Operations User Service are those that involve ITS technologies, integration with other transportation systems that are represented in the National ITS Architecture, and those that will benefit surface transportation efficiency and safety.

The MCO User Service requires ITS-related systems and processes to have the capability to monitor, analyze, and disseminate roadway conditions data for operational, maintenance, and managerial uses. It prescribes the need to coordinate and integrate MCO activities within diverse organizations in order to reduce costs, maintain or improve the efficiency and effectiveness of these activities, and increase the level of reusability of systems and technologies. In spite of its rural origin, the MCO User Service is applicable to urban, interurban, and rural environments.

The focus for the MCO User Service will be on the following four functional areas: 1. Maintenance Vehicle Fleet Management: Systems that monitor/track vehicle location, support enhanced routing, scheduling, and dispatching functions, and use on-board diagnostic systems to assist in vehicle operations and maintenance activities. An example would be snow removal equipment dispatch and monitoring systems.

2. Roadway Management: Systems that provide automated monitoring of traffic, road surface, and weather conditions (from both roadside components and vehicles), contain coordinated dispatching, perform hazardous road conditions remediation, and have the ability to alert public operating agencies of changes in these conditions.

3. Work Zone Management and Safety: Systems that ensure safe roadway operations during construction and other work zone activities and communicate with the traveler.

4. Roadway Maintenance Conditions and Work Plan Dissemination: Systems that disseminate/coordinate MCO work plans to affected personnel/staff within/between public agencies and private sector firms.

Stakeholder Participation

Interested parties are invited to participate in the incorporation of the Maintenance and Construction Operations User Service into the National ITS Architecture. A one day workshop to kick off the new user service effort to incorporate changes into the National ITS Architecture will be scheduled in the near future. If you are interested in participating with us in this effort please contact Mr. James Pol (202) 366-4374, ITS Joint Program Office (HOIT-1), or Mr. Michael Freitas, (202) 366-9292, ITS Joint Program Office (HOIT-1).

Authority: 23 U.S.C. 101, 106, 109, 133, 315, and 508; sec 5206(e), Pub. L. 105-178, 112 Stat. 457 (23 U.S.C. 502 note); and 49 CFR 1.48.

Issued on: April 11, 2001.
Vincent F. Schimmoller,
Deputy Executive Director.

[FR Doc. 01-9539 Filed 4-17-01; 8:45 am]

BILLING CODE 4910-22-P